DEPARTMENT OF EDUCATION

Notice of Submission for OMB Review

AGENCY: Department of Education.

ACTION: Comment Request.

SUMMARY: The Director, Information Collection Clearance Division, Privacy, Information and Records Management Services, Office of Management, invites comments on the submission for OMB review as required by the Paperwork Reduction Act of 1995 (Pub. L 104-13).

DATES: Interested persons are invited to submit comments on or before June 6, 2011.

ADDRESSES: Written comments should be addressed to the Office of Information and Regulatory Affairs, attention: Education Desk Officer, Office of Management and Budget, 725 17th Street, NW., Room 10222, New Executive Office Building, Washington, DC 20503, be faxed to (202) 395-5806 or e-mailed to oira_submission@omb.eop.gov with a cc: To ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: April 29, 2011.
Darrin A. King,
Director, Information Collection Clearance Division, Privacy, Information and Records Management Services, Office of Management.

Office of Special Education and Rehabilitative Services

Type of Review: Revision.

Title of Collection: Annual Performance Report of Independent Living for Older Individuals Who are Blind.

OMB Control Number: 1820-0608.

Agency Form Number(s): RSA-7-OB.

Frequency of Responses: Annually.

Affected Public: State, Local, or Tribal Government, State Educational Agencies or Local Educational Agencies.

Total Estimated Number of Annual Responses: 56.

Total Estimated Annual Burden Hours: 336.

Abstract: This data collection instrument is being submitted to obtain approval for information collection on the Independent Living Services for Older Individuals Who Are Blind program. Through this program, grants are made to states to support services for individuals age 55 or older whose severe visual impairment makes competitive employment difficult to obtain but for whom independent living goals are feasible. This data will be used to evaluate and construct a profile for the program nationwide. The respondents will be the managers of the Independent Living Services for Older Individuals Who Are blind program in each of the 56 states and territories. The revisions to this instrument consist of 2 additional items in Part I to capture the amount of other federal funds made available to the program, and the carryover for those funds. In Part III, rearrangement in the order of requested information to avoid double counting of consumers in the race and ethnicity categories; an additional item to capture the number of consumers served who are homeless; additional items to capture the number of consumers referred from nursing homes, assisted living facilities, government/social service agencies, and self referrals. In Part IV, section C was revised to omit “assistive technology” and avoid the overlap with section B—specifically B2 and C2 which asked for the same information. The word “regained” was changed to “maintained” or “gained” wherever it appeared in the document as appropriate. Finally, in Part VI, we added language to link the information requested to that already provided in Part IV, and added items to capture the number of consumers who died while receiving services.

Copies of the information collection submission for OMB review may be accessed from the RegInfo.gov Web site at http://www.reginfo.gov/public/do/PRAMain or from the Department's Web site at http://edicsweb.ed.gov, by selecting the “Browse Pending Collections” link and by clicking on link number 4519. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-10966 Filed 5-4-11; 8:45 am]

BILLING CODE 4000-01-P